DEPARTMENT OF STATE

[Public Notice: 12327]

Office of the Chief of Protocol; Gifts to Federal Employees From Foreign Government Sources Reported to Employing Agencies in Calendar Year 2022

All information reported to the Office of the Chief of Protocol, including gift appraisal and donor information, is the responsibility of the employing agency, in accordance with applicable law and GSA regulations.

The Office of the Chief of Protocol, Department of State, submits the following comprehensive listing of the statements which, as required by law, federal employees filed with their employing agencies during calendar year 2022 concerning gifts received from foreign government sources. The compilation includes reports of both tangible gifts and gifts of travel or travel expenses of more than minimal value, as defined in 5 U.S.C. 7432 and GSA regulations. For calendar year 2022 (January 1, 2022 through December 31, 2022), minimal value is $415.00.

Pursuant to Title 22 of the Code of Federal Regulations Section 3.4, the report includes all gifts given on a single occasion when the aggregate value of those gifts exceeds minimal value. Also included are gifts received in previous years including two from 2019, three from 2020, and nineteen from 2021. These latter gifts are being reported in this year's report for calendar year 2022 because the Office of the Chief of Protocol, Department of State, did not receive the relevant information at the time of reporting to include them in earlier reports. Agencies not listed in this report either did not receive relevant gifts during the calendar year, did not transmit a listing to the Secretary of State of all statements filed during the preceding year by the employees of that agency pursuant to 5 U.S.C. 7432(f)(1), or did not respond to the State Department's Office of the Chief of Protocol's request for data. The U.S. Senate maintains an internal minimal value of $100; therefore, all gifts over the $100 limit are furnished in the U.S. Senate report.

Publication of this listing in the Federal Register is required by section 7342(f) of Title 5, United States Code, as added by section 515(a)(1) of the Foreign Relations Authorization Act, Fiscal Year 1978 (Pub. L. 95-105, August 17, 1977, 91 Stat. 865).

John R. Bass,
Under Secretary for Management, U.S. Department of State.

Agency: The White House—Executive Office of the President
[Report of Tangible Gifts Furnished by the White House—Executive Office of the President]
Name and title of person accepting the gift on behalf of the U.S. Government | Gift, date of acceptance on behalf of the U.S. Government, estimated value, and current disposition or location | Identity of foreign donor and government | Circumstances justifying acceptance
The Honorable Joseph R. Biden Jr., President of the United States | Painting titled “At Parika Stelling (Guyana).” Rec'd—3/2/2022. Est. Value—$650.00. Disposition—Pending Transfer to NARA. | His Excellency Mohamed Irfaan Ali, President of the Co-operative Republic of Guyana | Non-acceptance would cause embarrassment to donor and U.S. Government.
The Honorable Joseph R. Biden Jr., President of the United States | Basket made of Werregue Fiber, Handwoven Hammock. Rec'd—3/24/2022. Est. Value—$600.00. Disposition—Pending Transfer to NARA. | His Excellency Iván Duque, President of the Republic of Colombia | Non-acceptance would cause embarrassment to donor and U.S. Government.
The Honorable Joseph R. Biden Jr., President of the United States | “Nekhbet Collar” Reproduction. Rec'd—4/29/2022. Est. Value—$1,530.00. Disposition—Pending Transfer to NARA. | His Excellency Abdel Fattah Al-Sisi, President of the Arab Republic of Egypt | Non-acceptance would cause embarrassment to donor and U.S. Government.
The Honorable Joseph R. Biden Jr., President of the United States | Gold-plated Basket. Rec'd—5/13/2022. Est. Value—$490.00. Disposition—Pending Transfer to NARA. | His Majesty Sultan Haji Hassanal Bolkiah Mu'izzaddin Waddaulah Ibni Al-Marhum Sultan Haji Omar 'Ali Saifuddien Sa'adul Khairi Waddien, Sultan and Yang Di-Pertuan of Brunei Darussalam | Non-acceptance would cause embarrassment to donor and U.S. Government.
The Honorable Joseph R. Biden Jr., President of the United States | Sterling Silver Plate with Wood Stand Rec'd—5/13/2022. Est. Value—$420.00. Disposition—Pending Transfer to NARA. | His Excellency Hun Sen, Prime Minister of the Kingdom of Cambodia | Non-acceptance would cause embarrassment to donor and U.S. Government.
The Honorable Joseph R. Biden Jr., President of the United States | Navy Blue Silk. Rec'd—5/13/2022. Est. Value—$420.00. Disposition—Pending Transfer to NARA. | His Excellency Pham Minh Chinh, Prime Minister of the Socialist Republic of Vietnam | Non-acceptance would cause embarrassment to donor and U.S. Government.
The Honorable Joseph R. Biden Jr., President of the United States | Footed Bowl Stamped “PAMPALONI 825” with Stand. Rec'd—5/16/2022. Est. Value—$9,585.00. Disposition—Pending Transfer to NARA. | Ms. Mareva Grabowski-Mitsotakis, Spouse of the Prime Minister of the Hellenic Republic | Non-acceptance would cause embarrassment to donor and U.S. Government.
The Honorable Joseph R. Biden Jr., President of the United States | Iittala Vase. Rec'd—5/19/2022. Est. Value—$425.00. Disposition—Pending Transfer to NARA. | His Excellency Sauli Niinisto, President of the Republic of Finland | Non-acceptance would cause embarrassment to donor and U.S. Government.
The Honorable Joseph R. Biden Jr., President of the United States | “QATAR 2022/22 Joe Biden” Sports Jersey with “FIFA World Cup Qatar 2022” Identification Card. Rec'd—5/26/2022. Est. Value—$430.00. Disposition—Pending Transfer to NARA. | His Royal Highness Sheikh Tamim bin Hamad Al Thani, Emir of the State of Qatar | Non-acceptance would cause embarrassment to donor and U.S. Government.
The Honorable Joseph R. Biden Jr., President of the United States | Paper Scissor-cut Artwork. Rec'd—5/26/2022. Est. Value—$450.00. Disposition—Pending Transfer to NARA. | His Excellency Narendra Modi, Prime Minister of the Republic of India | Non-acceptance would cause embarrassment to donor and U.S. Government.
The Honorable Joseph R. Biden Jr., President of the United States | Painting Titled “Evening in Aranguez”. Rec'd—6/8/2022. Est. Value—$1,300.00. Disposition—Pending Transfer to NARA. | The Honorable Keith Rowley, Prime Minister of the Republic of Trinidad and Tobago | Non-acceptance would cause embarrassment to donor and U.S. Government.
The Honorable Joseph R. Biden Jr., President of the United States | Bottle of “Appleton Estate Ruby”. Rec'd—6/8/2022. Est. Value—$1,200.00. Disposition—Perishable items retained for Official Use and/or disposed of pursuant to USSS policies. | The Most Honorable Andrew Holness, Prime Minister of Jamaica | Non-acceptance would cause embarrassment to donor and U.S. Government.
The Honorable Joseph R. Biden Jr., President of the United States | Green Stone Sculpture. Rec'd—6/9/2022. Est. Value—$450.00. Disposition—Pending Transfer to NARA. | The Right Honorable Justin Trudeau, PC, MP, Prime Minister of Canada | Non-acceptance would cause embarrassment to donor and U.S. Government.
The Honorable Joseph R. Biden Jr., President of the United States | Pottery Marked “Oscar Soteno E. Metepec. Mex.22”. Rec'd—6/10/2022. Est. Value—$700.00. Disposition—Pending Transfer to NARA. | His Excellency Marcelo Ebrard Casaubon, Foreign Secretary of Mexico | Non-acceptance would cause embarrassment to donor and U.S. Government.
The Honorable Joseph R. Biden Jr., President of the United States | Framed Artwork. Rec'd—6/21/2022. Est. Value—$2,180.00. Disposition—Pending Transfer to NARA. | His Excellency Pham Minh Chính, Prime Minister of the Socialist Republic of Vietnam | Non-acceptance would cause embarrassment to donor and U.S. Government.
The Honorable Joseph R. Biden Jr., President of the United States | “Seoan” Reading Table. Rec'd—6/23/2022. Est. Value—$3,200.00. Disposition—Pending Transfer to NARA. | His Excellency Yoon Suk Yeol, President of the Republic of Korea | Non-acceptance would cause embarrassment to donor and U.S. Government.
The Honorable Joseph R. Biden Jr., President of the United States | Building Model by Royal Selangor. Rec'd—6/23/2022. Est. Value—$8,700.00. Disposition—Pending Transfer to NARA. | His Excellency Dato' Sri Ismail Sabribin Yaakob, Prime Minister of Malaysia | Non-acceptance would cause embarrassment to donor and U.S. Government.
The Honorable Joseph R. Biden Jr., President of the United States | Painting of Virgin Mary with Child. Rec'd—6/23/2022. Est. Value—$560.00. Disposition—Pending Transfer to NARA. | His Excellency Pedro Castillo, President of the Republic of Peru and Mrs. Lilia Paredes | Non-acceptance would cause embarrassment to donor and U.S. Government.
The Honorable Joseph R. Biden Jr., President of the United States | Abalone Shell Nativity Scene, Commemorative Mother-of-Pearl Plate. Rec'd—6/23/2022. Est. Value—$450.00. Disposition—Transferred to NARA. | His Excellency Lee Hsien Loong, Prime Minister of the Republic of Singapore | Non-acceptance would cause embarrassment to donor and U.S. Government.
The Honorable Joseph R. Biden Jr., President of the United States | “Mere” Māori Battle Axe, Thomas Hansen of Tauranga Moana Area Footed Bowl. Rec'd—6/24/2022. Est. Value—$2,870.00. Disposition—Pending Transfer to NARA. | The Right Honorable Jacinda Ardern, Prime Minister and Minister of National Security and Intelligence of New Zealand | Non-acceptance would cause embarrassment to donor and U.S. Government.
The Honorable Joseph R. Biden Jr., President of the United States | Set of 6 Crystal Tumblers, Commemorative Coins. Rec'd—7/8/2022. Est. Value—$440.00. Disposition—Pending Transfer to NARA. | His Majesty Felipe VI, King of Spain | Non-acceptance would cause embarrassment to donor and U.S. Government.
The Honorable Joseph R. Biden Jr., President of the United States | Israeli Presidential Medal of Honor, Hardcover Book, Certificate. Rec'd—7/13/2022. Est. Value—$590.00. Disposition—Book and Certificate transferred to NARA, Medal of Honor official use on display in the West Wing. | His Excellency Isaac Herzog, President of the State Israel | Non-acceptance would cause embarrassment to donor and U.S. Government.
The Honorable Joseph R. Biden Jr., President of the United States | 2 Scene Shadowbox, “State of Palestine” Photobook. Rec'd—7/15/2022. Est. Value—$2,740.00. Disposition—Pending Transfer to NARA. | His Excellency Mahmoud Abbas, President of the Palestinian Authority | Non-acceptance would cause embarrassment to donor and U.S. Government.
The Honorable Joseph R. Biden Jr., President of the United States | Olive Wood Nativity Scene. Rec'd—7/15/2022. Est. Value—$9,760.00. Disposition—Pending Transfer to NARA. | Mr. Hanna Hanania, Mayor of Bethlehem, Palestinian Authority | Non-acceptance would cause embarrassment to donor and U.S. Government.
The Honorable Joseph R. Biden Jr., President of the United States | Wool Ground Mat, Kuwaiti Drinking and Clothing Set. Rec'd—7/16/2022. Est. Value—$680.00. Disposition—Transferred to NARA. | His Highness, Sheikh Mishaal Al-Ahmed Al-Jaber Al-Sabah, Crown Prince of the State of Kuwait | Non-acceptance would cause embarrassment to donor and U.S. Government.
The Honorable Joseph R. Biden Jr., President of the United States | 2 Volume Book Set, 3 “AlUla” Books by Assouline, Wooden Presentation Box, 3 Bottles of Olive Oil, 2 Bags of Coffee, Cotton Washcloths, 2 Glass Serving Trays, 12 Rogaska of Slovenia Crystal Containers, Clear Glass Jar, Rogaska of Slovenia Tray and Serving Tray, Incense Burner. Rec'd—7/16/2022. Est. Value—$34,860.00. Disposition—Transferred to NARA. | His Royal Highness Muhammad bin Salman bin Abdulaziz Al Saud, Crown Prince, Deputy Prime Minister, and Minister of Defense of the Kingdom of Saudi Arabia | Non-acceptance would cause embarrassment to donor and U.S. Government.
The Honorable Joseph R. Biden Jr., President of the United States | Wood Bowl. Rec'd—7/28/2022. Est. Value—$790.00. Disposition—Pending Transfer to NARA. | His Majesty King Abdullah II ibn Al Hussein, King of the Hashemite Kingdom of Jordan | Non-acceptance would cause embarrassment to donor and U.S. Government.
The Honorable Joseph R. Biden Jr., President of the United States | Yellow Gold Brooch, Guyana Flag Lapel Pin. Rec'd—8/8/2022. Est. Value—$736.00. Disposition—Pending Transfer to NARA. | His Excellency Mohamed Irfaan Ali, President of the Co-operative Republic of Guyana | Non-acceptance would cause embarrassment to donor and U.S. Government.
The Honorable Joseph R. Biden Jr., President of the United States | 2 Coffee Table Books, Drink Set, 2 Books by Nelson Mandela, Wood Box. Rec'd—9/16/2022. Est. Value—$997.00. Disposition—Pending Transfer to NARA. | His Excellency Matamela Cyril Ramaphosa, President of the Republic of South Africa | Non-acceptance would cause embarrassment to donor and U.S. Government.
The Honorable Joseph R. Biden Jr., President of the United States | Pair of South Sea Cufflinks. Rec'd—9/21/2022. Est. Value—$3,700.00. Disposition—Pending Transfer to NARA. | His Excellency Ferdinand R. Marcos, Jr., President of the Republic of Philippines | Non-acceptance would cause embarrassment to donor and U.S. Government.
The Honorable Joseph R. Biden Jr., President of the United States | Photo Album, Framed Relief of the Old City. Rec'd—10/31/2022. Est. Value—$585.00. Disposition—Transferred to NARA. | His Excellency Isaac Herzog, President of the State of Israel | Non-acceptance would cause embarrassment to donor and U.S. Government.
The Honorable Joseph R. Biden Jr., President of the United States | Metal Ankh. Rec'd—11/10/2022. Est. Value—$2,430.00. Disposition—Pending Transfer to NARA. | President Abdel Fattah Al-Sisi, President of the Arab Republic of Egypt | Non-acceptance would cause embarrassment to donor and U.S. Government.
The Honorable Joseph R. Biden Jr., President of the United States | ASEAN 2022 Watch, Briefcase Set with Notebook and Pen. Rec'd—11/11/2022. Est. Value—$1,790.00. Disposition—Pending Transfer to NARA. | His Excellency Hun Sen, Prime Minister of the Kingdom of Cambodia | Non-acceptance would cause embarrassment to donor and U.S. Government.
The Honorable Joseph R. Biden Jr., President of the United States | Blue Shirt, Orange Multi-Colored Shirt by Kwong Tung, Blue Multi-Colored Shirt by Kwong Tung. Rec'd—11/12/2022. Est. Value—$710.00. Disposition—Pending Transfer to NARA. | ASEAN East Asia Summit 2022 Host Committee, Government of the Kingdom of Cambodia | Non-acceptance would cause embarrassment to donor and U.S. Government.
The Honorable Joseph R. Biden Jr., President of the United States | Traditional Dagger with Carvings. Rec'd—11/14/2022. Est. Value—$3,200.00. Disposition—Pending Transfer to NARA. | His Excellency Joko Widodo, President of the Republic of Indonesia | Non-acceptance would cause embarrassment to donor and U.S. Government.
The Honorable Joseph R. Biden Jr., President of the United States | Blue Batik, G20 Notebook Cover, Leather Briefcase with iPad, Silver Horn, Pin. Rec'd—11/15/2022. Est. Value—$14,344.00. Disposition—Transferred to NARA. | G20 Host Committee, Government of the Republic of Indonesia | Non-acceptance would cause embarrassment to donor and U.S. Government.
The Honorable Joseph R. Biden Jr., President of the United States | Painting Titled “Orange Patterns”. Rec'd—11/21/2022. Est. Value—$2,400.00. Disposition—Pending Transfer to NARA. | His Excellency Volodymyr Zelenskyy, President of Ukraine | Non-acceptance would cause embarrassment to donor and U.S. Government.
The Honorable Joseph R. Biden Jr., President of the United States | Christofle Silver Bowl, Grande Nautic Ski GMT Watch, Book “Revolution”, Bottle of Armagnac 1942 Reserve Joseph. Rec'd—11/30/2022. Est. Value—$1,016.00. Disposition—Watch Purchased, Bowl and Book pending transfer to NARA, Perishable items retained for Official Use and/or disposed of pursuant to USSS policies. | His Excellency Emmanuel Macron, President of the French Republic and Mrs. Brigitte Macron | Non-acceptance would cause embarrassment to donor and U.S. Government.
The Honorable Joseph R. Biden Jr., President of the United States | Panama Style Hat by Signes of Ecuador, Alpaca Fur Scarf. Rec'd—Unknown. Est. Value—$570.00. Disposition—Transferred to NARA. | His Excellency Guillermo Lasso, President of the Republic of Ecuador | Non-acceptance would cause embarrassment to donor and U.S. Government.
The Honorable Joseph R. Biden Jr., President of the United States and Dr. Jill Biden, First Lady of the United States | Painting Depicting Cityscape. Rec'd—1/12/2022. Est. Value—$900.00. Disposition—Pending Transfer to NARA. | His Excellency Khazar Ibrahim, Ambassador of Azerbaijan to the United States | Non-acceptance would cause embarrassment to donor and U.S. Government.
The Honorable Joseph R. Biden Jr., President of the United States, Dr. Jill Biden, First Lady of the United States of America | 2 Rose Quartz Hummingbirds Artwork. Rec'd—6/23/2022. Est. Value—$890.00. Disposition—Pending Transfer to NARA. | His Excellency Jair Bolsonaro, President of the Federative Republic of Brazil | Non-acceptance would cause embarrassment to donor and U.S. Government.
Dr. Jill Biden | Table Linens with 4 Napkins, Gold Brooch and Earrings. Rec'd—5/9/2022. Est. Value—$570.00. Disposition—NARA (Linens), Retained for Personal Use (Jewelry). | Mrs. Olena Zelenska, First Lady of Ukraine | Non-acceptance would cause embarrassment to donor and U.S. Government.
Dr. Jill Biden | Taytta of Ecuador Hat, Painting of Dr. Biden, Tote Bag, Print of Dr. Biden. Rec'd—6/23/2022. Est. Value—$1,847.00. Disposition—Pending Transfer to NARA. | Her Excellency Ivonne A-Baki, Ambassador of the Republic of Ecuador to the United States | Non-acceptance would cause embarrassment to donor and U.S. Government.
Dr. Jill Biden | Black Shawl by Torath Shop, Long Sleeve Jacket by Torath Shop Rec'd—8/22/2022. Est. Value—$594.00. Disposition—Pending Transfer to NARA. | His Excellency Mahmoud Abbas, President of the Palestinian Authority | Non-acceptance would cause embarrassment to donor and U.S. Government.
Dr. Jill Biden | Pair of South Sea Pearl Earrings. Rec'd—9/21/2022. Est. Value—$3,180.00. Disposition—Pending Transfer to NARA. | Mrs. Louise Araneta-Marcos, First Lady of the Republic of the Philippines | Non-acceptance would cause embarrassment to donor and U.S. Government.
Dr. Jill Biden | Heden Clutch with Metal Chain. Rec'd—9/21/2022. Est. Value—$780.00. Disposition—Pending Transfer to NARA. | Her Majesty Letizia, Queen of Spain | Non-acceptance would cause embarrassment to donor and U.S. Government.
Dr. Jill Biden | White Marble Dish, Diamond and Gold Bracelet. Rec'd—10/20/2022. Est. Value—$460.00. Disposition—Transferred to NARA. | Mrs. Mareva Mitsotakis, Spouse of the Prime Minister of the Hellenic Republic | Non-acceptance would cause embarrassment to donor and U.S. Government.
Dr. Jill Biden | 18k Gold Pin. Rec'd—10/31/2022. Est. Value—$670.00. Disposition—Transferred to NARA. | The Honorable James Marape, MP, Prime Minister of the Republic of Papua New Guinea | Non-acceptance would cause embarrassment to donor and U.S. Government.
Dr. Jill Biden | Gold Pin with Pearl, Scarf Set. Rec'd—11/12/2022. Est. Value—$605.00. Disposition—Pending Transfer to NARA. | G20 Host Committee, Government of the Republic of Indonesia | Non-acceptance would cause embarrassment to donor and U.S. Government.
Dr. Jill Biden | Dior handbag, Saint Jame L'Atelier Sweater, “The Plaque, The Fall, Exile, and The Kingdom, and Selected Essays” Book, “Madam Bovary” Book. Rec'd—11/30/2022. Est. Value—$5,832.00. Disposition—Handbag official Use in East Wing, Sweater—Retained for Personal Use, Books—Transferred to NARA. | His Excellency Emmanuel Macron, President of the French Republic and Mrs. Brigitte Macron | Non-acceptance would cause embarrassment to donor and U.S. Government.
Dr. Jill Biden | Silver Necklace by Patrick Mavros. Rec'd—12/16/2022. Est. Value—$675.00. Disposition—Transferred to NARA. | Mrs. Kobita Jugnauth, Spouse of the Prime Minister of the Republic of Mauritius | Non-acceptance would cause embarrassment to donor and U.S. Government.
The Honorable Ronald Klain, Assistant to the President & Chief of Staff | Herend Porcelain Tea Set. Rec'd—8/17/2022. Est. Value—$800.00. Disposition—Pending transfer to GSA. | His Excellency Peter Szijjarto, Minister of Foreign Affairs and Trade to the Republic of Hungary | Non-acceptance would cause embarrassment to donor and U.S. Government.
The Honorable Jacob Sullivan, Assistant to the President for National Security Affairs | Decorative Metal Plate. Rec'd—7/15/2022. Est. Value—$1,340.00. Disposition—Pending transfer to GSA. | His Excellency Mahmoud Abbas, President of the Palestinian Authority | Non-acceptance would cause embarrassment to donor and U.S. Government.
The Honorable Jacob Sullivan, Assistant to the President for National Security Affairs | Traditional Rug, Wood Plaque, Silver Filigree Box, Pashmina Wool Shawl, Leather Briefcase. Rec'd—8/12/2022. Est. Value—$450.00. Disposition—Transferred to GSA. | General Qamar Javed Bajwa, Chief of Army Staff of the Islamic Republic of Pakistan | Non-acceptance would cause embarrassment to donor and U.S. Government.
The Honorable Jacob Sullivan, Assistant to the President for National Security Affairs | Painting Titled “The Light Will Win”, Traditional Ukrainian Shirt, Order of Yaroslav the Wise Medal Set. Rec'd—11/4/2022. Est. Value—$1,429.00. Disposition—Pending transfer to GSA. | His Excellency Volodymyr Zelenskyy, President of Ukraine | Non-acceptance would cause embarrassment to donor and U.S. Government.
The Honorable Jonathan Finer, Assistant to the President & Principal Deputy National Security Advisor | Ground Cover. Rec'd—11/2/2022. Est. Value—$780.00. Disposition—Transferred to U.S. Fish & Wildlife Service | His Excellency Mohamed Ould Ghazouani, President of the Islamic Republic of Mauritania | Non-acceptance would cause embarrassment to donor and U.S. Government.
The Honorable Jonathan Finer, Assistant to the President & Principal Deputy National Security Advisor | Set of 2 Wristwatches. Rec'd—2022. Est. Value—$740.00. Disposition—Pending transfer to GSA. | The Government of the Republic of Korea | Non-acceptance would cause embarrassment to donor and U.S. Government.
The Honorable Yohannes Abraham, Deputy Assistant to the President, Chief of Staff, and Executive Secretary of the United States National Security Council | Tote Bag with 4 Silks. Rec'd—8/18/2022. Est. Value—$425.00. Disposition—Awaiting for proof of purchase before transfer to recipient. | His Excellency Rosan Perkasa Roeslani, Ambassador of the Republic of Indonesia to the United States | Non-acceptance would cause embarrassment to donor and U.S. Government.
The Honorable Brett McGurk, National Security Council Coordinator for the Middle East and North Africa | Mother-of-Pearl Nativity Scene. Rec'd—10/26/2022. Est. Value—$450.00. Disposition—Pending Transfer to GSA. | His Excellency Mahmoud Abbas, President of the Palestinian Authority | Non-acceptance would cause embarrassment to donor and U.S. Government.
The Honorable Edgard Kagan, Special Assistant to the President and Senior Director for East Asia and Oceania, National Security Council | Set of 2 Wristwatches. Rec'd—2022. Est. Value—$740.00. Disposition—Pending transfer to GSA. | The Government of the Republic of Korea | Non-acceptance would cause embarrassment to donor and U.S. Government.
Mr. Adam Farrar, Director for the Korean Peninsula and Mongolia, National Security Council | Set of 2 Wristwatches. Rec'd—2022. Est. Value—$740.00. Disposition—White House Gifts Office. Pending transfer to GSA. | The Government of the Republic of Korea | Non-acceptance would cause embarrassment to donor and U.S. Government.
Unknown White House Staff | Mother-of-Pearl Nativity Scene. Rec'd—7/15/2022. Est. Value—$450.00. Disposition—Pending transfer to GSA. | His Excellency Mahmoud Abbas, President of the Palestinian Authority | Non-acceptance would cause embarrassment to donor and U.S. Government.

Agency: The Executive Office of the Vice President
[Report of Tangible Gifts Furnished by the Executive Office of the Vice President]
Name and title of person accepting the gift on behalf of the U.S. Government | Gift, date of acceptance on behalf of the U.S. Government, estimated value, and current disposition or location | Identity of foreign donor and government | Circumstances justifying acceptance
The Honorable Kamala D. Harris, Vice President of the United States | Appleton Estate Ruby Rum. Rec'd—3/30/2022. Est. Value—$699.99. Disposition—Perishable items for official use and/or to be disposed of per United States Secret Service policy. | The Most Honorable Andrew Holness, Prime Minister of Jamaica | Non-acceptance would cause embarrassment to donor and U.S. Government.
The Honorable Kamala D. Harris, Vice President of the United States | Tanzanite and Gold Necklace and Earrings Set. Rec'd—4/15/2022. Est. Value—$1,568.00. Disposition—Transferred to NARA. | Her Excellency Samia Suluhu Hassan, President of the United Republic of Tanzania | Non-acceptance would cause embarrassment to donor and U.S. Government.
The Honorable Kamala D. Harris, Vice President of the United States | Large Silver Ornamental Box. Rec'd—5/13/2022. Est. Value—$925.00. Disposition—Transferred to NARA. | His Majesty Sultan Haji Hassanal Bolkiah Mu'izzaddin Waddaulah Ibni Al-Marhum Sultan Haji Omar 'Ali Saifuddien Sa'adul Khairi Waddien, Sultan and Yang Di-Pertuan of Brunei Darussalam | Non-acceptance would cause embarrassment to donor and U.S. Government.
The Honorable Kamala D. Harris, Vice President of the United States | Beaded Blanket Depicting Colors of the South African Flag, Tea Set, Book: Tute—The Authorized Portrait, Book: Dare not Linger—The Presidential Years, and Book: Conversations with Myself. Rec'd—9/16/2022. Est. Value—$599.87. Disposition—Transferred to NARA. | His Excellency Matamela Cyril Ramaphosa, President of the Republic of South Africa | Non-acceptance would cause embarrassment to donor and U.S. Government.
The Honorable Kamala D. Harris, Vice President of the United States | Rectangular Plaque of Metal Repose of Royal in River. Rec'd—11/18/2022. Est. Value—$1,100.00. Disposition—Transferred to NARA. | His Excellency Itthiphol Kunplome, Minister of Culture of the Kingdom of Thailand | Non-acceptance would cause embarrassment to donor and U.S. Government.
The Honorable Kamala D. Harris, Vice President of the United States | South Sea Pearl Necklace. Rec'd—11/22/2022. Est. Value—$2,400.00. Disposition—Transferred to NARA. | The Honorable Edward S. Hagedorn, Congressman, 3rd District, House of Representatives of the Republic of the Philippines | Non-acceptance would cause embarrassment to donor and U.S. Government.
The Honorable Kamala D. Harris, Vice President of the United States | Hammer Shell Jewelry Box. Rec'd—11/28/2022. Est. Value—$485.00. Disposition—Transferred to NARA. | His Excellency Ferdinand R. Marcos, Jr., President of the Republic of the Philippines | Non-acceptance would cause embarrassment to donor and U.S. Government.
The Honorable Kamala D. Harris, Vice President of the United States | Model Space Rocket and Scarf. Rec'd—12/01/2022. Est. Value—$745.00. Disposition—Transferred to NARA. | His Excellency Emmanuel Macron, President of the French Republic and Mrs. Brigitte Macron | Non-acceptance would cause embarrassment to donor and U.S. Government.
The Honorable Kamala D. Harris, Vice President of the United States | Traditional Gold-Plated Bangles with Patterns & Inscriptions. Rec'd—12/16/2022. Est. Value—$1,370.00. Disposition—Transferred to NARA. | His Excellency Mohamed Menfi, President of Libya | Non-acceptance would cause embarrassment to donor and U.S. Government.
The Honorable Kamala D. Harris, Vice President of the United States | Framed Mosaic Tile. Rec'd—12/28/2022. Est. Value—$780.00. Disposition—Transferred to NARA. | His Excellency Aymen Benabderrahmane, Prime Minister of the People's Democratic Republic of Algeria | Non-acceptance would cause embarrassment to donor and U.S. Government.
The Honorable Kamala D. Harris, Vice President of the United States and Mr. Douglas Emhoff | Coin, Government House Book, Chan Soma Silk Tie, and Benjarong Style Tea Set. Rec'd—11/18/2022. Est. Value—$1,105.00. Disposition—Transferred to NARA. | His Excellency Prayut Chan-o-cha, Prime Minister of the Kingdom of Thailand | Non-acceptance would cause embarrassment to donor and U.S. Government.
Mr. Douglas Emhoff | St. DuPont Gold and Blue Pen. Rec'd—12/01/2022. Est. Value—$450.00. Disposition—Transferred to NARA. | His Excellency Emmanuel Macron, President of the French Republic and Mrs. Brigitte Macron | Non-acceptance would cause embarrassment to donor and U.S. Government.

Agency: Department of State
[Report of Tangible Gifts Furnished by the Department of State]
Name and title of person accepting the gift on behalf of the U.S. Government | Gift, date of acceptance on behalf of the U.S. Government, estimated value, and current disposition or location | Identity of foreign donor and government | Circumstances justifying acceptance
The Honorable Antony J. Blinken, Secretary of State | Custom Guitar with Name Personalization. Rec'd—3/25/2022. Est. Value—$890.00. Disposition—Pending Transfer to GSA. | His Excellency Mohammed bin Abdulrahman Al-Thani, Deputy Prime Minister and Minister of Foreign Affairs of the State of Qatar | Non-acceptance would cause embarrassment to donor and U.S. Government.
The Honorable Antony J. Blinken, Secretary of State | Moroccan Carpet and Green Presentation Box with Silver Desk Set. Rec'd—3/29/2022. Est. Value—$625.00. Disposition—Pending Transfer to GSA. | His Excellency Nasser Bourita, Minister of Foreign Affairs and International Cooperation of Morocco | Non-acceptance would cause embarrassment to donor and U.S. Government.
The Honorable Antony J. Blinken, Secretary of State | 2 Large Boxes of Dates and Decorative Sword with Metal Scabbard in Display Case. Rec'd—3/30/2022. Est. Value—430.88 Disposition—Perishable items discardrded. Pending Transfer to GSA. | His Excellency Abdelmadjid Tebboune, President of the People's Democratic Republic of Algeria | Non-acceptance would cause embarrassment to donor and U.S. Government.
The Honorable Victoria Nuland, Under Secretary of State for Political Affairs | Home Fragrances and Moroccan Carpet. Rec'd—5/13/2022. Est. Value—$620.00. Disposition—Pending Transfer to GSA. | His Excellency Nasser Bourita, Minister of Foreign Affairs and International Cooperation of Morocco | Non-acceptance would cause embarrassment to donor and U.S. Government.
The Honorable Leslie M. Tsou, United States Ambassador to Oman | Silver Arabic Coffee Pot, Rec'd—11/22/2021. Est. Value—$909.10. Disposition—Pending Transfer to GSA. | The Honorable Sheikh Abdullah bin Showain Al Hosni, Chairman Oman Human Rights Commission, Sultanate of Oman | Non-acceptance would cause embarrassment to donor and U.S. Government.
The Honorable Steven C. Bondy, United States Ambassador to the Kingdom of Bahrain | Pearl and Gold Cufflinks from Al Mannai Jewelry of Bahrain. Rec'd—2/17/2022. Est. Value—$850.00 Disposition—Pending Transfer to GSA. | His Excellency Abdul Latif bin Rashid Al Zayani, Minister of Foreign Affairs of the Kingdom of Bahrain | Non-acceptance would cause embarrassment to donor and U.S. Government.
The Honorable Herro Mustafa Garg, United States Ambassador to the Arab Republic of Egypt | Gift Set of Two Handmade White Wine Cups. Rec'd—8/11/2022. Est. Value—$518.75 Disposition—Retained for Official Use. | Mr. Biser Borisov, Deputy Chairman, State Agency Technical Operations, The Arab Republic of Egypt | Non-acceptance would cause embarrassment to donor and U.S. Government.
The Honorable Daniel Rosenblum, United States Ambassador to Uzbekistan | Silk Carpet. Rec'd—9/4/2022. Est. Value—$15,000.00. Disposition—Retained for Official Use. | Government of the Republic of Uzbekistan | Non-acceptance would cause embarrassment to donor and U.S. Government.
The Honorable Yael Lempert, Acting Assistant Secretary of State for Near Eastern Affairs | Blue Box with Perfume Bottles and Appie Gift Box. Rec'd—3/29/2022. Est. Value—$490.00 Disposition—Pending Transfer to GSA. | His Excellency Nasser Bourita, Minister of Foreign Affairs and International Cooperation of Morocco | Non-acceptance would cause embarrassment to donor and U.S. Government.
The Honorable Julieta Valls Noyes, Assistant Secretary of State for Population, Refugees, and Migration | Silk Carpet. Rec'd—10/11/2022. Est. Value—$1,200.00. Disposition—Retained for Official Use. | His Excellency Muhammad Talha Mahmood, Member of the Senate of the Islamic Republic of Pakistan | Non-acceptance would cause embarrassment to donor and U.S. Government.
Ms. Asel Roberts, Acting Chief of Protocol of the United States | Brooch. Rec'd—4/25/2022. Est. Value—$850.00 Disposition—Pending Transfer to GSA. | Mrs. Ayu Heni Rosan, Spouse of Ambassador of Republic of Indonesia to the United States | Non-acceptance would cause embarrassment to donor and U.S. Government.
Ms. Cassandra Kildow, Attorney Advisor for Department of State | Rose Gold Necklace. Rec'd—10/26/2022. Est. Value—$600.00 Disposition—Pending Transfer to GSA. | His Excellency Elias Bou Saab, Deputy Speaker of Parliament, Republic of Lebanon | Non-acceptance would cause embarrassment to donor and U.S. Government.

Agency: Department of Justice
[Report of Tangible Gifts and Gifts of Travel Furnished by the Department of Justice]
Name and title of person accepting the gift on behalf of the U.S. Government | Gift, date of acceptance on behalf of the U.S. Government, estimated value, and current disposition or location | Identity of foreign donor and government | Circumstances justifying acceptance
The Honorable Merrick Garland, Attorney General of the United States | Burberry Cashmere Scarf (Navy and Red) Rec'd—6/1/2022. Est. Value—$520.00 Disposition—Transferred to Justice Management Div for disposition. | Mr. Mohamed Abdulaziz Al Nassr, Security Attache, Embassy of State of Qatar | Non-acceptance would cause embarrassment to donor and U.S. Government.
The Honorable Bruce C. Swartz, Deputy Assistant Attorney General | GIFT OF TRAVEL: Lodging hotel room. Est. $886.64. Rec'd—11/15/2022. | Wiesbaden German Government | Non-acceptance would cause embarrassment.
The Honorable Kenneth A. Polite, Jr., Assistant Attorney General for the Criminal Division | GIFT OF TRAVEL: Lodging in kind for the G7 conference in Germany. Est. $598.00. Rec'd—10/4/2022. | G7 Host Committee, The Government of the Federal Republic of Germany | Non-acceptance would cause embarrassment.
Mr. Cyrus T. Salamy, Assistant Special Agent in Charge, Los Angeles Field Division | Watch, Saint Honore Rec'd—5/16/2022. Est. Value—$675.00 Disposition—On Display for Official Use. | Brigadier General Ahmed Khalifa Al-Kuwari, Director of Anti-Narcotics General Administration Ministry of Interior of the State of Qatar | Non-acceptance would cause embarrassment to donor and U.S. Government.
Mr. Christopher M. Wilson, Supervisory Special Agent, Los Angeles Field Division | Watch, Saint Honore Rec'd—5/16/2022. Est. Value—$450.00. Disposition—On Display for Official Use. | Brigadier General Ahmed Khalifa Al-Kuwari, Director of Anti-Narcotics General Administration Ministry of Interior of the State of Qatar | Non-acceptance would cause embarrassment to donor and U.S. Government.
Mr. Kevin Adams, Assistant Special Agent in Charge, Las Vegas District Office | Watch, Movado Bold Rec'd—5/19/2022. Est. Value—$495.00 Disposition—On Display for Official Use. | Brigadier General Ahmed Khalifa Al-Kuwari, Director of Anti-Narcotics General Administration Ministry of Interior of the State of Qatar | Non-acceptance would cause embarrassment to donor and U.S. Government.
Ms. Brianna Brown, Assistant Special Agent-In-Charge Secretary, Las Vegas District Office | Watch, Movado Bold Rec'd—5/19/2022. Est. Value—$495.00 Disposition—On Display for Official Use. | Brigadier General Ahmed Khalifa Al-Kuwari, Director of Anti-Narcotics General Administration Ministry of Interior of the State of Qatar | Non-acceptance would cause embarrassment to donor and U.S. Government.
Mr. Martin Lewis, Internal Revenue Service Group Supervisor Las Vegas District Office | Watch, Movado Bold Rec'd—5/19/2022. Est. Value—$495.00 Disposition—On Display for Official Use. | Brigadier General Ahmed Khalifa Al-Kuwari, Director of Anti-Narcotics General Administration Ministry of Interior of the State of Qatar | Non-acceptance would cause embarrassment to donor and U.S. Government.
Ms. Kristi Neilson, Intelligence Research Specialist, Las Vegas District Office | Watch, Movado Bold Rec'd—5/19/2022. Est. Value—$495.00 Disposition—On Display for Official Use. | Brigadier General Ahmed Khalifa Al-Kuwari, Director of Anti-Narcotics General Administration Ministry of Interior of the State of Qatar | Non-acceptance would cause embarrassment to donor and U.S. Government.
Ms. Katherine Harman-Stokes, Acting Director of Office of Privacy and Civil Liberties | GIFT OF TRAVEL: Two nights of lodging/two nights dinner and two days lunch. Est. $636.61. Rec'd—9/20/2022. | Best Practices, Capacity Building and Network Initiative Project (BeCaNet); hosted by Sous-Direction Anti-Terroriste (SDAT), France; chaired by Bundeskriminalamt (BKA), Germany | Non-acceptance would cause embarrassment.
Ms. Julie Younts, Assistant Chief Inspector, Asset Forfeiture Division for the Criminal Division | GIFT OF TRAVEL: Airfare and lodging (received in kind) to attend the CARIN Steering Meeting and General Meeting in Madrid, Spain. Est. $1,662.43. Rec'd—10/21/2022. | European Union through the Camden Asset Recovery Inter-Agency Network (CARIN) | Non-acceptance would cause embarrassment.

Agency: Central Intelligence Agency
[Report of Tangible Gifts and Gifts of Travel Furnished by the Central Intelligence Agency]
Name and title of person accepting the gift on behalf of the U.S. Government | Gift, date of acceptance on behalf of the U.S. Government, estimated value, and current disposition or location | Identity of foreign donor and government | Circumstances justifying acceptance
The Honorable William Burns, Director of the Central Intelligence Agency | Ceramic Statue. Rec'd—9/7/2021. Est. Value—$780.00 Disposition—Transferred to GSA. | 5 U.S.C. 7342(f)(4) | Non-acceptance would cause embarrassment to donor and U.S. Government.
The Honorable William Burns, Director of the Central Intelligence Agency | Red Silk Rug. Rec'd—10/4/2021. Est. Value—$1,000.00 Disposition—Transferred to GSA. | 5 U.S.C. 7342(f)(4) | Non-acceptance would cause embarrassment to donor and U.S. Government.
The Honorable William Burns, Director of the Central Intelligence Agency | Cufflinks with Gold Stripes. Rec'd—7/21/2021. Est. Value—$500.00 Disposition—Transferred to GSA. | 5 U.S.C. 7342(f)(4) | Non-acceptance would cause embarrassment to donor and U.S. Government.
The Honorable William Burns, Director of the Central Intelligence Agency | Rug and Painting. Rec'd—7/13/2022. Est. Value—$2,000.00 Disposition—Mission Display. | 5 U.S.C. 7342(f)(4) | Non-acceptance would cause embarrassment to donor and U.S. Government.
The Honorable William Burns, Director of the Central Intelligence Agency | Pen and Necklace. Rec'd—9/20/2022. Est. Value—$800.00 Disposition—Transferred to GSA. | 5 U.S.C. 7342(f)(4) | Non-acceptance would cause embarrassment to donor and U.S. Government.
The Honorable William Burns, Director of the Central Intelligence Agency | Reticulated Silver Centerpiece with a Pair of Candlesticks. Rec'd—8/1/2021. Est. Value—$600.00 Disposition—Transferred to GSA. | 5 U.S.C. 7342(f)(4) | Non-acceptance would cause embarrassment to donor and U.S. Government.
The Honorable David Cohen, Deputy Director, Central Intelligence Agency | Men's Boutique Shirt. Rec'd—9/28/2022. Est. Value—$614.00 Disposition—Transferred to GSA. | 5 U.S.C. 7342(f)(4) | Non-acceptance would cause embarrassment to donor and U.S. Government.
The Honorable David Cohen, Deputy Director, Central Intelligence Agency | Men's Boutique Shirt. Rec'd—9/28/2022. Est. Value—$614.00 Disposition—Transferred to GSA. | 5 U.S.C. 7342(f)(4) | Non-acceptance would cause embarrassment to donor and U.S. Government.
The Honorable David Cohen, Deputy Director, Central Intelligence Agency | Women's Boutique Robe. Rec'd—9/28/2022. Est. Value—$784.00 Disposition—Transferred to GSA. | 5 U.S.C. 7342(f)(4) | Non-acceptance would cause embarrassment to donor and U.S. Government.
The Honorable David Cohen, Deputy Director, Central Intelligence Agency | Men's Boutique Shirt. Rec'd—9/28/2022. Est. Value—$614.00 Disposition—Transferred to GSA. | 5 U.S.C. 7342(f)(4) | Non-acceptance would cause embarrassment to donor and U.S. Government.
The Honorable David Cohen, Deputy Director, Central Intelligence Agency | Women's Boutique Tunic. Rec'd—9/28/2022. Est. Value—$784.00 Disposition—Transferred to GSA. | 5 U.S.C. 7342(f)(4) | Non-acceptance would cause embarrassment to donor and U.S. Government.
An Agency Employee | Pen. Rec'd—10/26/2018. Est. Value—$815.00 Disposition—Transferred to GSA. | 5 U.S.C. 7342(f)(4) | Non-acceptance would cause embarrassment to donor and U.S. Government.
An Agency Employee | Inoperable Firearm. Rec'd—6/3/2019. Est. Value—$515.00 Disposition—Transferred to GSA. | 5 U.S.C. 7342(f)(4) | Non-acceptance would cause embarrassment to donor and U.S. Government.
An Agency Employee | Women's Watch. Rec'd—6/10/2020. Est. Value—$589.00 Disposition—Destroyed. | 5 U.S.C. 7342(f)(4) | Non-acceptance would cause embarrassment to donor and U.S. Government.
An Agency Employee | Inoperable Firearm. Rec'd—10/15/2020. Est. Value—$515.00 Disposition—Transferred to GSA. | 5 U.S.C. 7342(f)(4) | Non-acceptance would cause embarrassment to donor and U.S. Government.
An Agency Employee | Gift Set. Rec'd—1/23/2021. Est. Value—$1,600.00 Disposition—Destroyed. | 5 U.S.C. 7342(f)(4) | Non-acceptance would cause embarrassment to donor and U.S. Government.
An Agency Employee | Men's Watch. Rec'd—6/15/2021. Est. Value—$3,500.00 Disposition—Destroyed. | 5 U.S.C. 7342(f)(4) | Non-acceptance would cause embarrassment to donor and U.S. Government.
An Agency Employee | Saddle. Rec'd—7/5/2021. Est. Value—$5,000.00 Disposition—Mission Display. | 5 U.S.C. 7342(f)(4) | Non-acceptance would cause embarrassment to donor and U.S. Government.
An Agency Employee | Men's Watch. Rec'd—1/3/2022. Est. Value—$500.00 Disposition—Purchased. | 5 U.S.C. 7342(f)(4) | Non-acceptance would cause embarrassment to donor and U.S. Government.
An Agency Employee | Pen. Rec'd—1/5/2022. Est. Value—$425.00 Disposition—Destroyed. | 5 U.S.C. 7342(f)(4) | Non-acceptance would cause embarrassment to donor and U.S. Government.
An Agency Employee | 190 Cookies from Upscale Bakery. Rec'd—1/18/2022. Est. Value—$700.00 Disposition—Official Use. | 5 U.S.C. 7342(f)(4) | Non-acceptance would cause embarrassment to donor and U.S. Government.
An Agency Employee | Silk Scarf. Rec'd—1/18/2022. Est. Value—$500.00 Disposition—Destroyed. | 5 U.S.C. 7342(f)(4) | Non-acceptance would cause embarrassment to donor and U.S. Government.
An Agency Employee | Silk Scarf. Rec'd—1/18/2022. Est. Value—$420.00 Disposition—Destroyed. | 5 U.S.C. 7342(f)(4) | Non-acceptance would cause embarrassment to donor and U.S. Government.
An Agency Employee | Men's Watch. Rec'd—1/18/2022. Est. Value—$3,000.00 Disposition—Destroyed. | 5 U.S.C. 7342(f)(4) | Non-acceptance would cause embarrassment to donor and U.S. Government.
An Agency Employee | Bottle of Wine. Rec'd—1/25/2022. Est. Value—$2,300.00 Disposition—Official Use. | 5 U.S.C. 7342(f)(4) | Non-acceptance would cause embarrassment to donor and U.S. Government.
An Agency Employee | Gift Set. Rec'd—2/17/2022. Est. Value—$860.00 Disposition—Official Use. | 5 U.S.C. 7342(f)(4) | Non-acceptance would cause embarrassment to donor and U.S. Government.
An Agency Employee | 2 Bottles of Perfume. Rec'd—2/24/2022. Est. Value—$578.00 Disposition—Official Use. | 5 U.S.C. 7342(f)(4) | Non-acceptance would cause embarrassment to donor and U.S. Government.
An Agency Employee | Gift Set. Rec'd—2/24/2022. Est. Value—$1,649.00 Disposition—Destroyed. | 5 U.S.C. 7342(f)(4) | Non-acceptance would cause embarrassment to donor and U.S. Government.
An Agency Employee | Men's Watch. Rec'd—3/10/2022. Est. Value—$434.00 Disposition—Purchased. | 5 U.S.C. 7342(f)(4) | Non-acceptance would cause embarrassment to donor and U.S. Government.
An Agency Employee | Gift Set. Rec'd—7/13/2022. Est. Value—$605.00 Disposition—Destroyed. | 5 U.S.C. 7342(f)(4) | Non-acceptance would cause embarrassment to donor and U.S. Government.
An Agency Employee | Ticket to Sporting Event. Rec'd—3/25/2022. Est. Value—$430.00. Disposition—Official Use. | 5 U.S.C. 7342(f)(4) | Non-acceptance would cause embarrassment to donor and U.S. Government.
An Agency Employee | Gold and Emerald Necklace. Rec'd—4/1/2022. Est. Value—$1,500.00 Disposition—Purchased. | 5 U.S.C. 7342(f)(4) | Non-acceptance would cause embarrassment to donor and U.S. Government.
An Agency Employee | Framed Art/Picture. Rec'd—5/14/2022. Est. Value—$500.00 Disposition—Destroyed. | 5 U.S.C. 7342(f)(4) | Non-acceptance would cause embarrassment to donor and U.S. Government.
An Agency Employee | Pen and Tie. Rec'd—5/15/2022. Est. Value—$860.00. Disposition—Destroyed. | 5 U.S.C. 7342(f)(4) | Non-acceptance would cause embarrassment to donor and U.S. Government.
An Agency Employee | Women's Watch. Rec'd—5/28/2022. Est. Value—$900.00 Disposition—Destroyed. | 5 U.S.C. 7342(f)(4) | Non-acceptance would cause embarrassment to donor and U.S. Government.
An Agency Employee | Under Arm Travel Portfolio Bag. Rec'd—6/3/2022. Est. Value—$515.00. Disposition—Destroyed. | 5 U.S.C. 7342(f)(4) | Non-acceptance would cause embarrassment to donor and U.S. Government.
An Agency Employee | Inoperable Fire Arm. Rec'd—6/7/2022. Est. Value—$515.00 Disposition—Pending Purchase. | 5 U.S.C. 7342(f)(4) | Non-acceptance would cause embarrassment to donor and U.S. Government.
An Agency Employee | Framed Original Oil Painting. Rec'd—6/7/2022. Est. Value—$527.00. Disposition—Mission Display. | 5 U.S.C. 7342(f)(4) | Non-acceptance would cause embarrassment to donor and U.S. Government.
An Agency Employee | Gaming Laptop. Rec'd—6/13/2022. Est. Value—$1,499.00 Disposition—Purchased. | 5 U.S.C. 7342(f)(4) | Non-acceptance would cause embarrassment to donor and U.S. Government.
An Agency Employee | Men's Watch. Rec'd—6/21/2022. Est. Value—$1,290.00 Disposition—Destroyed. | 5 U.S.C. 7342(f)(4) | Non-acceptance would cause embarrassment to donor and U.S. Government.
An Agency Employee | Gift Set. Rec'd—6/21/2022. Est. Value—$1,829.00. Disposition—Destroyed. | 5 U.S.C. 7342(f)(4) | Non-acceptance would cause embarrassment to donor and U.S. Government.
An Agency Employee | Gift Set. Rec'd—6/21/2022. Est. Value—$2,024.00. Disposition—Destroyed. | 5 U.S.C. 7342(f)(4) | Non-acceptance would cause embarrassment to donor and U.S. Government.
An Agency Employee | Men's Watch. Rec'd—6/27/2022. Est. Value—$500.00. Disposition—Purchased. | 5 U.S.C. 7342(f)(4) | Non-acceptance would cause embarrassment to donor and U.S. Government.
An Agency Employee | Women's Watch. Rec'd—6/27/2022. Est. Value—$1,475.00. Disposition—Destroyed. | 5 U.S.C. 7342(f)(4) | Non-acceptance would cause embarrassment to donor and U.S. Government.
An Agency Employee | Desk Agenda Cover. Rec'd—6/30/2022. Est. Value—$620.00 Disposition—Official Use. | 5 U.S.C. 7342(f)(4) | Non-acceptance would cause embarrassment to donor and U.S. Government.
An Agency Employee | Chocolate Gift Set. Rec'd—7/5/2022. Est. Value—$2,110.00 Disposition—Official Use. | 5 U.S.C. 7342(f)(4) | Non-acceptance would cause embarrassment to donor and U.S. Government.
An Agency Employee | Pen. Rec'd—7/24/2022. Est. Value—$605.00 Disposition—Pending Purchase. | 5 U.S.C. 7342(f)(4) | Non-acceptance would cause embarrassment to donor and U.S. Government.
An Agency Employee | Bottle of Alcohol. Rec'd—7/25/2022. Est. Value—$7,651.00 Disposition—Destroyed. | 5 U.S.C. 7342(f)(4) | Non-acceptance would cause embarrassment to donor and U.S. Government.
An Agency Employee | Men's Watch. Rec'd—8/1/2022. Est. Value—$1,000.00 Disposition—Pending Purchase. | 5 U.S.C. 7342(f)(4) | Non-acceptance would cause embarrassment to donor and U.S. Government.
An Agency Employee | Leather Satchel. Rec'd—8/16/2022. Est. Value—$600.00 Disposition—Pending Purchase. | 5 U.S.C. 7342(f)(4) | Non-acceptance would cause embarrassment to donor and U.S. Government.
An Agency Employee | Inoperable Firearm. Rec'd—8/30/2022. Est. Value—$550.00 Disposition—Mission Display. | 5 U.S.C. 7342(f)(4) | Non-acceptance would cause embarrassment to donor and U.S. Government.
An Agency Employee | Inoperable Firearm. Rec'd—8/30/2022. Est. Value—$555.00 Disposition—Mission Display. | 5 U.S.C. 7342(f)(4) | Non-acceptance would cause embarrassment to donor and U.S. Government.
An Agency Employee | Inoperable Firearm. Rec'd—8/30/2022. Est. Value—$555.00 Disposition—Mission Display. | 5 U.S.C. 7342(f)(4) | Non-acceptance would cause embarrassment to donor and U.S. Government.
An Agency Employee | Tickets to Sporting Event. Rec'd—9/7/2022. Est. Value—$715.00 Disposition—Official Use. | 5 U.S.C. 7342(f)(4) | Non-acceptance would cause embarrassment to donor and U.S. Government.
An Agency Employee | Two Inoperable Firearms. Rec'd—9/7/2022. Est. Value—$1,500.00 Disposition—Destroyed. | 5 U.S.C. 7342(f)(4) | Non-acceptance would cause embarrassment to donor and U.S. Government.
An Agency Employee | Tickets to Sporting Event. Rec'd—9/20/2022. Est. Value—$705.00 Disposition—Official Use. | 5 U.S.C. 7342(f)(4) | Non-acceptance would cause embarrassment to donor and U.S. Government.
An Agency Employee | Batik Cloth. Rec'd—9/29/2022. Est. Value—$600.00 Disposition—Official Use. | 5 U.S.C. 7342(f)(4) | Non-acceptance would cause embarrassment to donor and U.S. Government.
An Agency Employee | Tickets to Sporting Event. Rec'd—9/29/2022. Est. Value—$715.00 Disposition—Official Use. | 5 U.S.C. 7342(f)(4) | Non-acceptance would cause embarrassment to donor and U.S. Government.
An Agency Employee | Tickets to Sporting Event. Rec'd—9/29/2022. Est. Value—$1,415.00 Disposition—Official Use. | 5 U.S.C. 7342(f)(4) | Non-acceptance would cause embarrassment to donor and U.S. Government.
An Agency Employee | Women's Watch. Rec'd—9/29/2022. Est. Value—$2,000.00 Disposition—Destroyed. | 5 U.S.C. 7342(f)(4) | Non-acceptance would cause embarrassment to donor and U.S. Government.
An Agency Employee | Tickets to Sporting Event. Rec'd—10/3/2022. Est. Value—$3,537.00 Disposition—Official Use. | 5 U.S.C. 7342(f)(4) | Non-acceptance would cause embarrassment to donor and U.S. Government.
An Agency Employee | Personalized Sterling Silver Picture Frame. Rec'd—10/5/2022. Est. Value—$750.00 Disposition—Official Use. | 5 U.S.C. 7342(f)(4) | Non-acceptance would cause embarrassment to donor and U.S. Government.
An Agency Employee | 2′x3′ Wool/Silk Rug. Rec'd—10/6/2022. Est. Value—$700.00 Disposition—Mission Display. | 5 U.S.C. 7342(f)(4) | Non-acceptance would cause embarrassment to donor and U.S. Government.
An Agency Employee | Ticket to Sporting Event. Rec'd—10/6/2022. Est. Value—$707.00 Disposition—Official Use. | 5 U.S.C. 7342(f)(4) | Non-acceptance would cause embarrassment to donor and U.S. Government.
An Agency Employee | Tickets to Sporting Event. Rec'd—10/23/2022. Est. Value—$2,830.00 Disposition—Official Use. | 5 U.S.C. 7342(f)(4) | Non-acceptance would cause embarrassment to donor and U.S. Government.
An Agency Employee | Tickets to Sporting Event. Rec'd—11/6/2022. Est. Value—$1,415.00 Disposition—Official Use. | 5 U.S.C. 7342(f)(4) | Non-acceptance would cause embarrassment to donor and U.S. Government.
An Agency Employee | Bottle of Scotch. Rec'd—11/15/2022. Est. Value—$910.00 Disposition—Official Use. | 5 U.S.C. 7342(f)(4) | Non-acceptance would cause embarrassment to donor and U.S. Government.
An Agency Employee | Ticket to Sporting Event. Rec'd—11/16/2022. Est. Value—$601.00 Disposition—Official Use. | 5 U.S.C. 7342(f)(4) | Non-acceptance would cause embarrassment to donor and U.S. Government.
An Agency Employee | Ticket to Sporting Event. Rec'd—11/17/2022. Est. Value—$1,201.00 Disposition—Official Use. | 5 U.S.C. 7342(f)(4) | Non-acceptance would cause embarrassment to donor and U.S. Government.
An Agency Employee | Ticket to Sporting Event. Rec'd—11/17/2022. Est. Value—$601.00 Disposition—Official Use. | 5 U.S.C. 7342(f)(4) | Non-acceptance would cause embarrassment to donor and U.S. Government.
An Agency Employee | Tickets to Sporting Event. Rec'd—11/18/2022. Est. Value—$601.00 Disposition—Official Use. | 5 U.S.C. 7342(f)(4) | Non-acceptance would cause embarrassment to donor and U.S. Government.
An Agency Employee | Bottle of Scotch Whisky. Rec'd—11/19/2022. Est. Value—$2,683.00 Disposition—Official Use. | 5 U.S.C. 7342(f)(4) | Non-acceptance would cause embarrassment to donor and U.S. Government.
An Agency Employee | Gift Basket of Food. Rec'd—12/12/2022. Est. Value—$533.00 Disposition—Destroyed. | 5 U.S.C. 7342(f)(4) | Non-acceptance would cause embarrassment to donor and U.S. Government.
An Agency Employee | Gift Set. Rec'd—12/22/2022. Est. Value—$768.00 Disposition—Mission Display/Official Use. | 5 U.S.C. 7342(f)(4) | Non-acceptance would cause embarrassment to donor and U.S. Government.

Agency: Department of Agriculture
[Report of Tangible Gifts Furnished by the Department of Agriculture]
Name and title of person accepting the gift on behalf of the U.S. Government | Gift, date of acceptance on behalf of the U.S. Government, estimated value, and current disposition or location | Identity of foreign donor and government | Circumstances justifying acceptance
The Honorable Thomas J. Vilsack, Secretary of Agriculture of the United States | Poland Oil Print—“Plock” by the Polish-“Hitchhiking”. Rec'd—7/5/2021. Est. Value—$616.54. Disposition—Purchased by the Secretary's Office for Personal Use. | His Excellency Henryk Kowalczyk, Deputy Prime Minister and Minister of Agriculture, Ministry of Agriculture and Rural Development of the Republic of Poland | Non-acceptance would cause embarrassment to donor and U.S. Government.

Agency: Department of Defense
[Report of Tangible Gifts Furnished by the Department of Defense]
Name and title of person accepting the gift on behalf of the U.S. Government | Gift, date of acceptance on behalf of the U.S. Government, estimated value, and current disposition or location | Identity of foreign donor and government | Circumstances justifying acceptance
The Honorable Lloyd J. Austin, Secretary of Defense | Book: “Above Two Seas: An Aerial View of the Kingdom of Bahrain” and William & Son Desk Clock with Bahraini Seal in Presentation Box. Rec'd—3/2/2021. Est. Value—$435.00. Disposition—Pending transfer to GSA. | Mr. Khaled Saad Ali Saad Almansoor, Assistant Military, Naval & Air Attache, Embassy of the Kingdom of Bahrain | Non-acceptance would cause embarrassment to donor and U.S. Government
The Honorable Lloyd J. Austin, Secretary of Defense | A Carpet, Wool Shawl, and Letter Encased in Leather Album. Rec'd—6/25/2021. Est. Value—$589.00. Disposition—Pending transfer to GSA. | General Qamar Javed Bajwa, Chief of Army Staff, Islamic Republic of Pakistan | Non-acceptance would cause embarrassment to donor and U.S. Government
The Honorable Lloyd J. Austin, Secretary of Defense | Plaque and 1821 Antique Pistol in Bespoke Presentation Box. Rec'd—7/18/2021. Est. Value—$485.00. Disposition—Pending transfer to GSA. | His Excellency Nikolaos Panagiotopoulos, Minister of Defense of the Hellenic Republic | Non-acceptance would cause embarrassment to donor and U.S. Government
The Honorable Lloyd J. Austin, Secretary of Defense | Sterling Silver Tray and Silk Rug. Rec'd—10/4/2021. Est. Value—$3,060.00. Disposition—Pending Transfer to GSA. | General Qamar Javed Bajwa, Chief of Army Staff, Islamic Republic of Pakistan | Non-acceptance would cause embarrassment to donor and U.S. Government
General Mark A. Milley, Chairman of the Joint Chief of Staff | Battle Axe Replica Framed Assemblage, Book “Military Strategy of the Slovak Republic”, and Certificate. Rec'd—2/23/2022. Est. Value—$439.00. Disposition—Pending transfer to GSA. | General Qamar Javed Bajwa, Chief of Army Staff, Islamic Republic of Pakistan | Non-acceptance would cause embarrassment to donor and U.S. Government
General Mark A. Milley, Chairman of the Joint Chief of Staff | Silk Rug, Leather Briefcase, and Cashmere Scarf. Rec'd—6/23/2022. Est. Value—$855.00. Disposition—Pending transfer to GSA. | General Qamar Javed Bajwa, Chief of Army Staff, Islamic Republic of Pakistan | Non-acceptance would cause embarrassment to donor and U.S. Government
General Mark A. Milley, Chairman of the Joint Chief of Staff | Scarf, Gold Plated Bracelet, and Tote Bag. Rec'd—9/17/2022. Est. Value—$647.00. Disposition—Pending transfer to GSA. | Mrs. Anna-Maria Tsikrikoni, Spouse of the Chief of Defense of the Hellenic Republic | Non-acceptance would cause embarrassment to donor and U.S. Government
General Mark A. Milley, Chairman of the Joint Chief of Staff | Book: “Black Magic with Long Range Precision Rifle: Science and Art of Cold Bore Accuracy at Unknown Distances”, Shawl, Rug, and Silver-tone Tray. Rec'd—10/4/2022. Est. Value—$745.00. Disposition—Pending transfer to GSA. | General Qamar Javed Bajwa, Chief of Army Staff, Islamic Republic of Pakistan | Non-acceptance would cause embarrassment to donor and U.S. Government
General Mark A. Milley, Chairman of the Joint Chief of Staff | Set of DVDs and a Bottle of “Kweichow Moutai”. Rec'd—12/20/2022. Est. Value—$685.00. Disposition—Pending transfer to GSA. | Major General Liu Zhan Chinese Defense Attaché, People's Republic of China | Non-acceptance would cause embarrassment to donor and U.S. Government
Lt. General Scott D. Berrier, Director, Defense Intelligence Agency | Book: “Israel Skyview”, Chess Set, and Medallion. Rec'd—3/14/2022. Est. Value—$485.00. Disposition—Pending transfer to GSA. | Major General Aharon Haliva, Chief, Israel Defense Intelligence, State of Israel | Non-acceptance would cause embarrassment to donor and U.S. Government
Ms. Dana Stroul, Deputy Assistant Secretary of Defense for Middle East | Ornate Silver Lamp in Green Presentation Box Engraved “16th US-Oman JMC”. Rec'd—3/24/2022. Est. Value—$730.00. Disposition—Pending transfer to GSA. | His Excellency Mohammed Al-Za'abi, Secretary General, Sultanate of Oman | Non-acceptance would cause embarrassment to donor and U.S. Government
Ms. Dana Stroul, Deputy Assistant Secretary of Defense for Middle East | 3 Plaques. Rec'd—4/25/2022. Est. Value—$685.00. Disposition—Pending transfer to GSA. | Bahraini Embassy Staff Member, Kingdom of Bahrain | Non-acceptance would cause embarrassment to donor and U.S. Government
Vice Admiral Frank Whitworth, J2 | Medallion, Plaque, and Scepter. Rec'd—7/25/2022. Est. Value—$500.00. Disposition—Awaiting Completion of Purchase Through GSA. | His Excellency Oleksii Reznikov, Minister of Defense of Ukraine | Non-acceptance would cause embarrassment to donor and U.S. Government.
Major General Burke Wilson, Deputy Assistant Secretary of Defense for Cyber Policy | Sake of 12 White Porcelain Sake Cups in Leather Carrying Case. Rec'd—11/12/2019 Est. Value—$650.00. Disposition—Pending transfer to GSA. | Major General Chin-Pin Tsao, Air Force, Taiwan | Non-acceptance would cause embarrassment to donor and U.S. Government.
Ms. Lindsey Ford, Deputy Assistant Secretary of Defense for South & Southeast Asia | Pearl Necklace. Rec'd—11/11/2021 Est Value—$585.00. Disposition: Pending transfer to GSA. | Air Chief Marshal Shaikh Abdul Hannan, The People's Republic of Bangladesh | Non-acceptance would cause embarrassment to donor and U.S. Government.
Ms. Chidi Blyden, Deputy Assistant Secretary of Defense for African Affairs | Two Metal Horse Figurines. Rec'd—11/17/2021. Est. Value—$2,000.00. Disposition—Pending transfer to GSA. | Brigadier General Aime Simpore, Burkina Faso | Non-acceptance would cause embarrassment to donor and U.S. Government.
Admiral Christopher Grady, Vice Chairman of the Joint Chiefs of Staff | Steel Blade and Bottle Azerbayean Konyaki. Rec'd—11/28/2022. Est. Value—$430.00. Disposition—Pending transfer to GSA. | Colonel General Karim Valiyev, First Deputy Minister of Defense, Chief of the General Staff, Republic of Azerbaijan | Non-acceptance would cause embarrassment to donor and U.S. Government.
Mr. Anthony Pascuma, Director of Middle East/Africa Commonwealth and Partner Engagement, Department of Defense | Bottle of Cologne, 5 Candles, Pearl Bracelet in Presentation Box, Tie Bar, and Metal Container with Scented Wax. Rec'd—11/30/2022. Est. Value—$660.00. Disposition—Pending transfer to GSA. | Shaykh Ali Bin Khalifa Al Khalifa, Director, Directorate of Military Intelligence, Kingdom of Bahrain | Non-acceptance would cause embarrassment to donor and U.S. Government.

Agency: Department of Army
[Report of Tangible Gifts Furnished by the Department of Army]
Name and title of person accepting the gift on behalf of the U.S. Government | Gift, date of acceptance on behalf of the U.S. Government, estimated value, and current disposition or location | Identity of foreign donor and government | Circumstances justifying acceptance
General Charles A. Flynn, Commanding General, United States Army Pacific | Art Painting Subhannahong Royal Brave on The River. Rec'd—9/15/2021. Est. Value—$751.00. Disposition—Official Use (Display). | General Narongpan Jittkaewtae, Royal Thai Army, Kingdom of Thailand | Non-acceptance would cause embarrassment to donor and U.S. Government.

Agency: Department of the Treasury
[Report of Tangible Gifts Furnished by the Department of the Treasury]
Name and title of person accepting the gift on behalf of the U.S. Government | Gift, date of acceptance on behalf of the U.S. Government, estimated value, and current disposition or location | Identity of foreign donor and government | Circumstances justifying acceptance
The Honorable Janet Yellen, Secretary of the Treasury | Blue Blazer by Judith & Charles. Rec'd—6/20/2022. Est. Value—495.00. Disposition—Transferred to GSA. | The Honorable Chrystia Freeland, Deputy Prime Minister and Minister of Finance of Canada | Non-acceptance would cause embarrassment to donor and U.S. Government.
The Honorable Wally Adeyemo, Deputy Secretary of the Treasury | Ceremonial sword in decorative case. Rec'd—5/31/2022. Est. Value—1,250.00. Disposition—Transferred to GSA. | His Excellency Ali bin Ahmed Al Kuwari, Minister of Finance, State of Qatar | Non-acceptance would cause embarrassment to donor and U.S. Government.
Mr. Andy Baukol, Counselor to the Secretary, Department of the Treasury | Nappa Dori laptop bag filled with gifts, including a small and large carved elephant figurine, a woven shawl, a silk necktie, an inlaid display plate, and a framed laser craved wooden mosaic. Rec'd—12/21/2022. Est. Value—$541.89. Disposition—Pending transfer to GSA. | The Government of India | Non-acceptance would cause embarrassment to donor and U.S. Government.
Mr. Jay Shambaugh, Under Secretary for International Affairs, Department of the Treasury | Nappa Dori laptop bag filled with gifts, including a turban, a carved elephant figurine, a woven shawl, a silk necktie, and a framed laser craved wooden mosaic. Rec'd—12/21/2022. Est. Value—459.65. Disposition—Pending transfer to GSA. | The Government of India | Non-acceptance would cause embarrassment to donor and U.S. Government.
Dr. Daniel Grodzicki, Financial Economist, Office of the Comptroller of the Currency | GIFT OF TRAVEL: Travel and Accommodation to Economics of Payments (EOP) XI Conference in Ottawa, Canada. Rec'd—10/12-14/2022. | The Central Bank of Canada | Non-acceptance would cause embarrassment.

Agency: U.S. Agency for International Development
[Report of Tangible Gifts Furnished by the U.S. Agency for International Development]
Name and title of person accepting the gift on behalf of the U.S. Government | Gift, date of acceptance on behalf of the U.S. Government, estimated value, and current disposition or location | Identity of foreign donor and government | Circumstances justifying acceptance
The Honorable Samantha Power, Administrator of the United States Agency for International Development | Large Blue and White Vietnamese Vase. Rec'd—5/13/2022. Est. Value—$972.19. Disposition—On Official Display. | His Excellency Pham Minh Chinh, Prime Minister of the Socialist Republic of Vietnam | Non-acceptance would cause embarrassment to donor and U.S. Government.
Mr. John Pennell, Director for USAID/Caucasus, United States Agency for International Development | Small Jewelry Sculpture Souvenir of Wine Making Made of Sterling Silver 925 (208.9 Gr) Enamel | Gold plated (24K) | Obsidian. Rec'd—10/3/2022. Est. Value—$650.00. Disposition—Official Use. | His Excellency Otar Shamugia, Minister of Environmental Protection and Agriculture of Georgia | Non-acceptance would cause embarrassment to donor and U.S. Government.
Ms. Kathryn Stevens, Mission Director Bangladesh, United States Agency for International Development | GIFT OF TRAVEL: Transportation to Bhasan Char provided to USG (for both USAID and State's PRM)—five trips: Bhasan Char is an island where refugee housing was built. The only way to travel to Bhasan Char is through transportation provided by the GoB. Rec'd—3/16-17/2022. | The Government of the People's Republic of Bangladesh | Non-acceptance would cause embarrassment.
Ms. Kathryn Stevens, Mission Director Bangladesh, United States Agency for International Development | GIFT OF TRAVEL: Transportation to Bhasan Char provided to USG (for both USAID and State's PRM)—five trips: Bhasan Char is an island where refugee housing was built. The only way to travel to Bhasan Char is through transportation provided by the GoB. Rec'd—5/9/2022. | The Government of the People's Republic of Bangladesh | Non-acceptance would cause embarrassment.
Ms. Kathryn Stevens, Mission Director Bangladesh, United States Agency for International Development | GIFT OF TRAVEL: Transportation to Bhasan Char provided to USG (for both USAID and State's PRM)—five trips: Bhasan Char is an island where refugee housing was built. The only way to travel to Bhasan Char is through transportation provided by the GoB. Rec'd—8/28-29/2022. | The Government of the People's Republic of Bangladesh | Non-acceptance would cause embarrassment.
Ms. Kathryn Stevens, Mission Director Bangladesh, United States Agency for International Development | GIFT OF TRAVEL: Transportation to Bhasan Char provided to USG (for both USAID and State's PRM)—five trips: Bhasan Char is an island where refugee housing was built. The only way to travel to Bhasan Char is through transportation provided by the GoB. Rec'd—11/20-22/2022. | The Government of the People's Republic of Bangladesh | Non-acceptance would cause embarrassment.
Ms. Kathryn Stevens, Mission Director Bangladesh, United States Agency for International Development | GIFT OF TRAVEL: Transportation to Bhasan Char provided to USG (for both USAID and State's PRM)—five trips: Bhasan Char is an island where refugee housing was built. The only way to travel to Bhasan Char is through transportation provided by the GoB. GIFT OF TRAVEL: Rec'd—12/6/2022. | The Government of the People's Republic of Bangladesh | Non-acceptance would cause embarrassment.

Agency: U.S. House of Representatives
[Report of Gifts of Travel Furnished by the U.S. House of Representatives]
Name and title of person accepting the gift on behalf of the U.S. Government | Gift, date of acceptance on behalf of the U.S. Government, estimated value, and current disposition or location | Identity of foreign donor and government | Circumstances justifying acceptance
The Honorable Anna Eshoo, Member of Congress | Bottle of Ararat Brandy, Erato perfume, Artuyt scarf from Prime Minister Pashinyan; Bottle of Ararat Brandy, Megerian Brooch, Masoor scarf from Speaker Simonyan; Crystal paperweight from Defense Minister Papikyan. Rec'd—9/17/2022. Est. Value—$1,370.00. Disposition—Pending Transfer to GSA. | The Government of the Republic of Armenia | Non-acceptance would cause embarrassment to donor and U.S. Government.
Ms. Jaya Khetarpal, Legislative Assistant and Staff Associate, United States House Foreign Affairs Committee | GIFT OF TRAVEL: Helicopter and Airplane Transportation to and from the Darien Province. Rec'd—10/4/2022. | The Government of the Republic of Panama | Non-acceptance would cause embarrassment.
Ms. Zakiya Carr Johnson, Professional Staff Member, United States House Foreign Affairs Committee | GIFT OF TRAVEL: Helicopter and Airplane Transportation to and from the Darien Province. Rec'd—10/4/2022. | The Government of the Republic of Panama | Non-acceptance would cause embarrassment.
Mr. Alex Sadler, Senior Policy Analyst, United States House Foreign Affairs Committee | GIFT OF TRAVEL: Helicopter and Airplane Transportation to and from the Darien Province. Rec'd—10/4/2022. | The Government of the Republic of Panama | Non-acceptance would cause embarrassment.
Ms. Dorothy Clark, Legislative Assistant, Rep. Tom Emmer | GIFT OF TRAVEL: Transportation via chartered plane from Montreal to Raddison, Quebec. Rec'd—10/11/2022. | The Government of Canada, Hydro-Quebec | Non-acceptance would cause embarrassment.
Ms. Alexandra Heller, Legislative Assistant, Rep. Tom Emmer | GIFT OF TRAVEL: Transportation via chartered plane from Montreal to Raddison, Quebec. Rec'd—10/11/2022. | The Government of Canada, Hydro-Quebec | Non-acceptance would cause embarrassment.
Ms. Katie Morley, Senior Legislative Assistant, Rep. Adrian Smith | GIFT OF TRAVEL: Transportation via chartered plane from Montreal to Raddison, Quebec. Rec'd—10/11/2022. | The Government of Canada, Hydro-Quebec | Non-acceptance would cause embarrassment.
Ms. Leslie Shedd, Communications Director, United States House Foreign Affairs Committee | GIFT OF TRAVEL: Transportation via chartered plane from Montreal to Raddison, Quebec. Rec'd—10/11/2022. | The Government of Canada, Hydro-Quebec | Non-acceptance would cause embarrassment.

Agency: U.S. Senate
[Report of Tangible Gifts Furnished by the U.S. Senate]
Name and title of person accepting the gift on behalf of the U.S. Government | Gift, date of acceptance on behalf of the U.S. Government, estimated value, and current disposition or location | Identity of foreign donor and government | Circumstances justifying acceptance
The Honorable Robert Menendez, United States Senator | Silver Wallet. Rec'd—8/27/2021. Est. Value—$175.00. Disposition—Secretary of the Senate. | His Excellency Nikos Dendias, Minister of Foreign Affairs of the Hellenic Republic | Non-acceptance would cause embarrassment to donor and U.S. Government.
The Honorable Steve Daines, United States Senator | Silver Peacock with Center Jade Stone. Rec'd—11/8/2021. Est. Value—$400.00. Disposition—Secretary of the Senate. | The Honorable Shri Piyush Goyal, Minister of Commerce & Industry, Consumer Affairs & Food & Public Distribution of Textiles, Republic of India | Non-acceptance would cause embarrassment to donor and U.S. Government.
The Honorable Ben Sasse, United States Senator | Handcrafted Carpet. Rec'd—1/28/2022. Est. Value—$333.00. Disposition—Secretary of the Senate. | His Excellency Imran Khan, Prime Minister of the Islamic Republic of Pakistan | Non-acceptance would cause embarrassment to donor and U.S. Government.
The Honorable Kirsten E. Gillibrand, United States Senator | Tiffany & Co. Tote Purse. Rec'd—4/27/2022. Est. Value—$1,680.00. Disposition—Secretary of the Senate. | His Highness Sheikh Tahnoun bin Zayed Al Nahyan, National Security Advisor, United Arab Emirates | Non-acceptance would cause embarrassment to donor and U.S. Government.
The Honorable Mark Kelly, United States Senator | Two Tiffany & Co. Pens. Rec'd—4/19/2022. Est. Value—$400.00. Disposition—Secretary of the Senate. | His Excellency Yousef Al Otaiba, Ambassador of the United Arab Emirates to the United States | Non-acceptance would cause embarrassment to donor and U.S. Government.
The Honorable Patrick J. Leahy, United States Senator | Bao An Ceramic Vase with Luxury Gold Painting. Rec'd—5/11/2022. Est. Value—$400.00. Disposition—Secretary of the Senate. | His Excellency Pham Minh Chinh, Prime Minister of the Socialist Republic of Vietnam | Non-acceptance would cause embarrassment to donor and U.S. Government.
The Honorable Shivani Pampati, Policy Advisor, United States Senate Committee on Small Business and Entrepreneurship | GIFT OF TRAVEL: Local Transportation within Germany, Lodging and Meals. Rec'd—5/27-6/5/2022. | Bernd Spangler, Division WI 4 International Exchange Programmes, Federals Republic of Germany | Non-acceptance would cause embarrassment to donor and U.S. Government.

Agency: Chief of Naval Operations (CNO)
[Report of Tangible Gifts Furnished by the Chief of Naval Operations]
Name and title of person accepting the gift on behalf of the U.S. Government | Gift, date of acceptance on behalf of the U.S. Government, estimated value, and current disposition or location | Identity of foreign donor and government | Circumstances justifying acceptance
Rear Admiral Anthony Rossi, Navy International Programs | Von Estis diamond repair, Eleensila Mask, Smoother, Radiance Lift Mask. Rec'd—8/3/2022. Est. Value—$533.00. Disposition—Unknown. | Admiral Lee Jong-Ho, Chief of Naval Operations, Republic of Korea | Non-acceptance would cause embarrassment to donor and U.S. Government.
Admiral Michael Gilday, United States Navy | Plaque and Gold Sword. Rec'd—10/20/2022. Est. Value—$2,800.00. Disposition—Retaining for Official Use. | His Excellency Prabowo Subianto, Minister of Defense Republic of Indonesia | Non-acceptance would cause embarrassment to donor and U.S. Government.
Admiral Michael Gilday, United States Navy | 1 Osulloc Tea Set, 1 Tie, 1 Red Ginseng Set, 1 Scarf, 1 Kabuto, 1 Travel Bag, 1 Hanbok Gown, 1 Mug, 1 Von Estis Face Cream Set. Rec'd—10/20/2022. Est. Value—$655.54. Disposition—Transferred to GSA. | Admiral Lee Jong-Ho, Chief of Naval Operations, Republic of Korea, and Mrs. (first name?) Yang | Non-acceptance would cause embarrassment to donor and U.S. Government.

Agency: National Aeronautics and Space Administration
[Report of Tangible Gifts Furnished by the National Aeronautics and Space Administration]
Name and title of person accepting the gift on behalf of the U.S. Government | Gift, date of acceptance on behalf of the U.S. Government, estimated value, and current disposition or location | Identity of foreign donor and government | Circumstances justifying acceptance
Mr. James Spann, Heliophysics Space Weather Lead | Francisco Brennand Ceramic Egg. Rec'd—11/4/2022. Est. Value—$555.87. Disposition—Heliophysics—Pending Reimbursement at Market Value. | Mr. Pierre Mattei, Denail Director of International Securities Association for Institutional Trade Commission | Non-acceptance would cause embarrassment to donor and U.S. Government.

Agency: National Transportation Safety Board
[Report of Tangible Gifts Furnished by the National Transportation Safety Board]
Name and title of person accepting the gift on behalf of the U.S. Government | Gift, date of acceptance on behalf of the U.S. Government, estimated value, and current disposition or location | Identity of foreign donor and government | Circumstances justifying acceptance
Ms. Sathya Silva, Marvin Frantz, Van McKenny, Aviation Accident Investigators, Office of Aviation Safety | GIFT OF TRAVEL: Air travel from Shanghai to Wuzhou to assist with aircraft crash investigation. Because of pandemic, no commercial flights were available between these locations. Rec'd—4/2/2022. | His Excellency Qin Gang, Ambassador of the People's Republic of China | Non-acceptance would cause embarrassment.
Mr. Nicholas Worrell, Chief Safety Advocacy Division, Office of Safety Recommendations and Communications | GIFT OF TRAVEL: Air travel from Lisbon, Portugal to Sal Cape Verde on April 10 and from Sal Cape Verde on April 14: Presentation on safety advocacy at the Civil Aviation Operational Safety Workshop. Rec'd—4/10-14/2022. | Mr. Mário Margarito Gomes Presidente do Conselho Diretivo/Chairman of The Board of Directors for Prevention and Investigation of Aeronautical and Maritime Accidents (IPIAAM) | Non-acceptance would cause embarrassment.

Agency: National Endowment for the Arts
[Report of Tangible Gifts Furnished by the National Endowment for the Arts]
Name and title of person accepting the gift on behalf of the U.S. Government | Gift, date of acceptance on behalf of the U.S. Government, estimated value, and current disposition or location | Identity of foreign donor and government | Circumstances justifying acceptance
Mr. Michael Orlove, Director of State, Regional & Local Partnerships and International Activities at National Endowment for the Arts | GIFT OF TRAVEL: Transportation (airfare and local), Lodging, Meals, Conference Registration. To speak at the Abu Dhabi Culture Summit 2022. The cost of this trip would have exceeded Michael Orlove's travel budget if the NEA were to pay for the trip. Est. $3,020.00. Rec'd—10/21/2022. | Ms. Rita Aoun, Executive Director, Culture Sector, Department of Culture and Tourism—Abu Dhabi, The United Arab Emirates | Non-acceptance would cause embarrassment.

[FR Doc. 2024-03129 Filed 2-14-24; 8:45 am]

BILLING CODE 4710-20-P